DEPARTMENT OF THE INTERIOR

Bureau of Land Management

[LLID102000-L58740000 EU0000LXSS026D0000; DGG-10-0001]

Notice of Realty Action: Proposed Sale of Public Lands in Bear Lake County, ID

AGENCY: Bureau of Land Management, Interior.

ACTION: Notice of realty action.

SUMMARY: The Bureau of Land Management (BLM) proposes the sale of 26 parcels of public lands totaling 1,543.14 acres in Bear Lake County, Idaho, under the authority of the Federal Land Policy and Management Act of 1976 (FLPMA) at no less than the appraised fair market value. This notice segregates the lands being considered for sale from all forms of appropriation under the public land laws, including the mining laws, except the sale provisions of the FLPMA for a period of up to 2 years.

DATES: To ensure consideration of your comments regarding the proposed action, comments must be received by January 31, 2011.

ADDRESSES: Address all comments concerning this notice to Field Manager, Pocatello Field Office, Bureau of Land Management, 4350 Cliffs Drive, Pocatello, Idaho 83204.

FOR FURTHER INFORMATION CONTACT: You may contact the Pocatello Field Office at above address or by phone (208) 478-6357.

SUPPLEMENTARY INFORMATION: The following described public lands in Bear Lake County, Idaho, are proposed for sale under the authority of Sections 203 and 209 of FLPMA (90 Stat. 2750, 43 U.S.C. 1713 and 1719):

Boise Meridian

Parcel #85, T. 10 S., R. 43 E., sec. 34, SW¼SE¼. T. 11 S., R. 43 E., sec. 3, lot 2.

Parcel #91, T. 11 S., R. 43 E., sec. 14, E½SW¼.

Parcel #92, T. 11 S., R. 43 E., sec. 20, NE¼NW¼.

Parcel #94, T. 11 S., R. 43 E., sec. 27, NE¼SE¼.

Parcel #97, T. 11 S., R. 43 E., sec. 33, SW¼NW¼.

Parcel #110, T. 12 S., R. 44 E., sec. 23, S½SE¼.

Parcel #101, T. 12 S., R. 46 E., sec. 4, lot 4.

Parcel #114, T. 13 S., R. 46 E., sec. 5, SW¼NE¼.

Parcel #122, T. 13 S, R. 44 E., sec. 18, SW¼SE¼.

Parcel #125, T. 13 S., R. 45 E., sec. 21, NE¼NE¼; sec. 22, NW¼NW¼.

Parcel #132, T. 13 S., R 44 E., sec. 34, SW¼SW¼.

Parcel #133, T. 14 S., R. 43 E., sec. 18, lot 3.

Parcel #134, T. 14 S., R. 46 E., sec. 17, NW¼SW¼.

Parcel #135, T. 14 S., R. 45 E., sec. 20, NW¼NW¼.

Parcel #136, T. 14 S., R. 46 E., sec. 20, SW¼NW¼.

Parcel #137, T. 14 S., R. 46 E., sec. 19, lots 2 and 3.

Parcel #138, T. 14 S., R. 45 E., sec. 19, SE¼SE¼; sec. 20, SW¼SW¼.

Parcel #139, T. 14 S., R. 43 E., sec. 27, N½NW¼.

Parcel #142, T. 14 S., R. 46 E., sec. 31, NW¼NE¼.

Parcel #143, T. 14 S., R. 46 E., sec. 31, NW¼SE¼.

Parcel #144, T. 15 S., R. 43 E., sec. 3, SW¼NW¼ and W½SW¼ ; sec. 4, SE¼NE¼.

Parcel #159, T. 15 S., R. 46 E., sec. 27, SE¼SE¼.

Parcel #163, T. 16 S., R. 43 E., sec. 10, SE¼NW¼ and NE¼SW¼.

Parcel #165, T. 16 S., R. 45 E., sec. 11, E½SE¼.

Parcel #167, T. 16 S., R. 46 E., sec. 20, NW¼NW¼.

Parcel #176, T. 14 S., R. 46 E., sec. 27, SE¼NE¼.

The areas described aggregate 1,543.14, acres more or less, in Bear Lake County. The lands are not needed for any Federal purpose and disposal would be in the public interest. The 1988 BLM Pocatello Resource Management Plan identified these parcels of public land as suitable for disposal. Conveyance of the identified public lands will be subject to valid existing rights and encumbrances of record, including but not limited to, rights-of-way for roads and public utilities. A decision regarding the method of sale (competitive, modified competitive, or direct) along with a decision regarding conveyance of any mineral interests pursuant to Section 209 of the FLPMA will be analyzed for each parcel during processing of the proposed sale. The BLM Pocatello Field Office anticipates publication of a follow-up notice in the Federal Register detailing these specifics when they have been determined.

On December 17, 2010, the above-described lands will be segregated from all forms of appropriation under the public land laws, including the mining laws, except the sale provisions of the FLPMA. Until completion of the sale, the BLM will not accept land use applications affecting the identified public lands, except applications for the amendment of previously-filed right-of-way applications or existing authorizations to increase the term of the grants in accordance with 43 CFR 2807.15 and 2886.15. The segregative effect will terminate upon issuance of a patent, publication in the Federal Register of a termination of the segregation, or December 17, 2012, unless extended by the BLM State Director in accordance with 43 CFR 2711.1-2(d) prior to the termination date.

Public Comments

For a period until January 31, 2011, interested parties and the general public may submit comments concerning the lands being considered for sale, including notification of any encumbrances or other claims relating to the identified lands, to the Field Manager, Pocatello Field Office, Bureau of Land Management, 4350 Cliffs Drive, Pocatello, Idaho 83204. In order to ensure consideration in the environmental analysis of the proposed sale, comments must be in writing and postmarked or delivered within 45 days of the initial date of publication of this notice. Comments transmitted via e-mail will not be accepted. Comments, including names and street addresses of respondents, will be available for public review at the BLM Pocatello Field Office during regular business hours, except holidays.

Before including your address, phone number, e-mail address, or other personal identifying information in your comment, you should be aware that your entire comment—including your personal identifying information—may be made publicly available at any time.

While you can ask us in your comment to withhold your personal identifying information from public review, we cannot guarantee that we will be able to do so.

Authority: 43 CFR 2711.1-2.

David Pacioretty,
Pocatello Field Manager.

[FR Doc. 2010-31702 Filed 12-16-10; 8:45 am]

BILLING CODE 4310-GG-P